DEPARTMENT OF COMMERCE

National Oceanic and Atmospheric Administration

[RTID 0648-XC460]

Programmatic Environmental Impact Statement for the NMFS Saltonstall-Kennedy Research and Development Program

AGENCY: National Marine Fisheries Service (NMFS), National Oceanic and Atmospheric Administration (NOAA), Department of Commerce.

ACTION: Notice of availability.

SUMMARY: NOAA announces the availability of its Final Programmatic Environmental Impact Statement (PEIS) which analyzes the potential environmental impacts of the implementation of projects that foster the promotion, marketing, research, and development of U.S. Fisheries and their associated fishing sectors, as consistent with NOAA's Saltonstall-Kennedy Research and Development Program (S-K Program). The focus of this action is on activities and projects under the S-K Program, which interfaces with numerous programs within NOAA, and it is NOAA's intention that this PEIS may also cover those activities and projects implemented by other NOAA programs and offices that are consistent with the scope of the S-K Program. In preparing the Final PEIS, NOAA has considered public comments received on the Draft PEIS, which was published in April 2022.

DATES: NOAA will publish a Record of Decision no sooner than 30 days after publication of the U.S. Environmental Protection Agency's Notice of Availability for this Final PEIS on the S-K website.

ADDRESSES: The Final PEIS is available at the NOAA website at the following link: https://www.fisheries.noaa.gov/content/saltonstall-kennedy-research-and-development-program.

FOR FURTHER INFORMATION CONTACT: Cliff Cosgrove, Saltonstall-Kennedy Program Manager, telephone: (301-427-8736); nmfs.sk.peis@noaa.gov; or visit the S-K Program website: https://www.fisheries.noaa.gov/content/saltonstall-kennedy-research-and-development-program.

SUPPLEMENTARY INFORMATION: The Final PEIS was developed to identify and evaluate the general impacts, issues and concerns related to the implementation of the types of projects that are consistent with the scope of the S-K Program. The S-K Program funds projects that address the needs of fishing communities, optimize economic benefits by building and maintaining sustainable fisheries (where the term “fisheries” includes commercial wild capture, recreational fishing, cultural and subsistence fishing, and marine aquaculture), and increase other opportunities to keep working waterfronts viable. The PEIS will be used to support site- and project-specific National Environmental Policy Act (NEPA) reviews, as necessary. The PEIS addresses all of the priorities and their associated project types that the S-K Program has funded since 2010, which cover the range of priorities and project types that fall under the S-K Program. The affected environment associated with the proposed action includes all marine, estuarine, and coastal habitats in the United States and territories. It also includes freshwater interior habitats that influence or affect rivers, streams, and creeks affecting marine or estuarine waters, or that support migratory fish populations. It may also include adjacent or continuous habitats in Canada or Mexico that support living coastal and marine resources under NOAA trusteeship.

The Final PEIS considers comments made on the Draft PEIS that officially began on May 13, 2022 and ended on June 27, 2022. Based on the information provided in the Final PEIS, NOAA has identified the continued operation and active management for Promotion, Marketing, Research, and Development of the S-K Program as the preferred alternative.

This notice initiates a public review period for the Final PEIS. For more information about the S-K Program, please use the link provided in the FOR FURTHER INFORMATION CONTACT section above.

Authority: This PEIS was prepared under the authority of, and in accordance with, the requirements of NEPA, implementing regulations published by the Council on Environmental Quality (40 CFR 1500-1508), other applicable regulations, and NOAA's policies and procedures for compliance with those regulations.

Dated: October 13, 2022.
Daniel A. Namur,
Director of the NMFS Financial Assistance Division, National Marine Fisheries Service.

[FR Doc. 2022-22689 Filed 10-18-22; 8:45 am]

BILLING CODE 3510-22-P